DEPARTMENT OF THE INTERIOR

National Park Service

[NPS-WASO-NAGPRA-NPS0027611, PPWOCRADN0-PCU00RP14.R50000]

Notice of Intent To Repatriate Cultural Items: Birmingham Museum of Art, Birmingham, AL

AGENCY: National Park Service, Interior.

ACTION: Notice.

SUMMARY: The Birmingham Museum of Art, in consultation with the appropriate Indian Tribes or Native Hawaiian organizations, has determined that the cultural items listed in this notice meet the definition of objects of cultural patrimony. Lineal descendants or representatives of any Indian Tribe or Native Hawaiian organization not identified in this notice that wish to claim these cultural items should submit a written request to the Birmingham Museum of Art. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Birmingham Museum of Art at the address in this notice by May 29, 2019.

ADDRESSES: Emily G. Hanna, Senior Curator, Birmingham Museum of Art, 2000 Rev. Abraham Woods Jr. Boulevard, Birmingham, AL 35203, telephone (205) 254-2983, email ehanna@artsbma.org.

SUPPLEMENTARY INFORMATION: Notice is here given in accordance with the Native American Graves Protection and Repatriation Act (NAGPRA), 25 U.S.C. 3005, of the intent to repatriate cultural items under the control of the Birmingham Museum of Art, Birmingham, AL, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Sometime in the 20th century, two cultural items were removed from Wrangell, AK. One of the objects, a S'aaxw (hat), was acquired by Axel Rasmussen prior to his death in 1945. In 1948, it was acquired by the Portland Art Museum (PAM). In 1955-56, the PAM deaccessioned the object and sold it to the Birmingham Museum of Art (accession number 1956.48.26).

The other object, a Keet Koowaal (Killerwhale with a Hole in its Fin), was purchased by the Birmingham Museum of Art in 2000 from Axis Gallery in NY (accession number 2000.83). Axis Gallery had purchased it in May 2000 from Mac Grimmer, who had purchased it from Alan Steele in April 2000. According to Axis Gallery, this object was once in the collection of Patricia Withof, and prior to that, it was in an English private collection.

Based on consultation with the Central Council of the Tlingit & Haida Indian Tribes, the Birmingham Museum of Art can reasonably show that these objects of cultural patrimony are culturally affiliated with the Tlingit and Haida Indian Tribes.

Determinations Made by the Birmingham Museum of Art

Officials of the Birmingham Museum of Art have determined that:

• Pursuant to 25 U.S.C. 3001(3)(D), the two cultural items described above have ongoing historical, traditional, or cultural importance central to a Native American group or culture itself, rather than property owned by an individual.

• Pursuant to 25 U.S.C. 3001(2), there is a relationship of shared group identity that can be reasonably traced between the objects of cultural patrimony and the Central Council of the Tlingit & Haida Tribes.

Additional Requestors and Disposition

Lineal descendants or representatives of any Indian Tribe or Native Hawaiian organization not identified in this notice that wish to claim these cultural items should submit a written request with information in support of the claim to Emily G. Hanna, Senior Curator, Birmingham Museum of Art, 2000 Rev. Abraham Woods Jr. Blvd., Birmingham, AL 35203, telephone (205) 254-2983, email ehanna@artsbma.org, by May 29, 2019. After that date, if no additional claimants have come forward, transfer of control of the objects of cultural patrimony to the Central Council of the Tlingit & Haida Indian Tribes may proceed.

The Birmingham Museum of Art is responsible for notifying the Central Council of the Tlingit & Haida Indian Tribes that this notice has been published.

Dated: April 2, 2019.
Melanie O'Brien,
Manager, National NAGPRA Program.

[FR Doc. 2019-08593 Filed 4-26-19; 8:45 am]

BILLING CODE 4312-52-P